DEPARTMENT OF ENERGY

Proposed Agency Information Collection

AGENCY: U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 30, 2009. If you anticipate difficulty in submitting comments within that period, contact the person listed in ADDRESSES as soon as possible. Likewise, an interested member of the public can view the collection of information in Survey below or can gain access to it by requesting the survey by e-mail from Douglas.George@in.doe.gov. Response will be provided within 60 days of the time of request.

ADDRESSES: Written comments may be sent to: Douglas E. George, IN-10 (Ops), 1000 Independence Avenue SW., Washington, DC 20585, Douglas.George@in.doe.gov, Fax: 202-586-0342.

FOR FURTHER INFORMATION CONTACT: Requests for additional information or copies of the information collection and instructions should be directed to: Douglas E. George, IN-10 (Ops), 1000 Independence Avenue SW., Washington, DC 20585; or electronically via: Douglas.George@in.doe.gov, or To: Douglas E. George, IN-10 (Ops), Fax: 202-586-0342.

SUPPLEMENTARY INFORMATION: This information collection request contains: (1) OMB No. “New”; (2) Information Collection Request Title: Office of Intelligence Customer Survey; (3) Type of Collection: New; Voluntary (4) Purpose: To track, on a monthly basis, the internal and external organizational use of and satisfaction and/or dissatisfaction with DOE Office of Intelligence and Counterintelligence products. It provides senior managers with information revealing the relative success and utility of DOE intelligence products; (5) Estimated annual number of respondents: 100; (6) Estimated annual number of Burden Hours: 25 hours for annual estimate cost of $1500 or less. Estimated cost is based on the salaries of personnel providing the respondent data; (6) Legal Authority: EO 12333; EO 13355; the National Strategy for Information Sharing (NSIS); ADCI/AP 2000-01 (Strategic Investment Plan for Intelligence Community Analysis); and U.S. Department of Energy Order 200.2.

Survey: The information collection request is composed of the attached survey.

Issued in Washington, DC, on January 30, 2009.
Marie Falkowski,
Director of Operations, IN-10 (Ops), Department of Energy.

Customer Survey

Customer Surveys provide valuable services to all concerned. Most important, though, a good survey serves you—the customer—with an insightful tool to help produce a better product to meet your requirements. Please take a few moments to help DOE's Office of Intelligence understand its customer and what it can do to serve you better.

1. As a DOE customer, my organization can be identified as follows:

a. DOE internal.

b. DOE external.

c. Member of the Intelligence Community.

d. Non-member of the Intelligence Community.

e. Other (explain)____.

2. A customer point-of-contact name/phone/email with whom DOE may follow up:

__________________.

3. My organization's distinctive intelligence competencies lie in the area(s) of (annotate all that apply):

a. All-source intelligence.

b. SIGINT.

c. IMINT.

d. HUMINT.

e. Other (please specify):

__________________.

4. How do you, as the customer, define “success?”

a. By fulfilling my organization's mission requirements.

b. Through the achievement of formal organizational goals and objectives.

c. By completing all levels of tasking in a timely manner.

d. By not making any critical mistakes.

e. Other:

__________________.

5. What do you perceive as the issue posing the greatest existing challenge/problem to your organization's overall success:

a. Insufficient resources (i.e., money, manpower, equipment, etc.).

b. Ineffective policy.

c. Poor management/leadership.

d. Insuffucient and/or inaccurate intelligence.

e. Other (please specify):

__________________.

6. What impending change do you see becoming the priority in your work environment?

a. Fewer resources (i.e., money, manpower, equipment).

b. New policies.

c. New or expanded mission.

d. More and/or improved intelligence.

e. Other (please specify):

__________________.

7. My organization uses intelligence products:

a. Daily.

b. Weekly.

c. Monthly.

d. Rarely.

e. Never.

8. DOE Office of Intelligence products are used:

a. Daily.

b. Weekly.

c. Monthly.

d. Rarely.

e. Never.

9. Which of the following DOE intelligence products does your organization use most frequently?

a. Bi-Weekly Counterterrorism Bulletin.

b. CI Notes.

c. Biennial Site Threat Assessments from all DOE facilities.

d. Special Reports.

e. Other (please specify):

__________________.

10. If you use DOE Office of Intelligence products, what would you estimate as their percentage of the total intelligence products you use?

a. > 76%.

b. 51-75%.

c. 10-50%.

d. Less than 10%.

e. DOE Office of Intelligence products are not used by my organization.

11. Why does your organization use DOE Office of Intelligence products (annotate all that apply)?

a. Similar missions.

b. Outstanding product quality.

c. Product ease of accessability and/or dedication to my information needs.

d. They supplement other all-source products we use.

e. Other (please specify):

__________________.

12. How does your organization use DOE Office of Intelligence products (annotate all that apply):

a. Operational requirements.

b. Technical understanding of foreign government nuclear and/or energy associated systems.

c. Intelligence analysis.

d. To assist in policy formulation.

e. Other (please specify):

__________________.

13. DOE Office of Intelligence products contribute to the solution of my organization's following problems/challenges (annotate all that apply):

a. Technical understanding of foreign government nuclear associated systems and new energy technologies.

b. Tracking terrorist pursuit of weapons of mass destruction (WMD).

c. Foreign government pursuit, fielding and/or proliferation of WMD or new energy technologies.

d. Understanding the role WMD and/or other energy systems may play in the formulation of new national and/or international policy.

e. Other (please specify):

__________________.

14. How can DOE's Office of Intelligence make its products easier for customer use (please annotate all that apply).

a. Expand its intelligence product line (i.e., product types/categories).

b. Tailor its product line to specific customer requirements.

c. Integrate customer feedback into each product.

d. Ensure all DOE intelligence products are readily accessible via customer classified and/or unclassified IT network portals.

e. Other (please specify):

__________________.

15. How can DOE's Office of Intelligence expand its services to meet your needs (please annotate all that apply)?

a. Define DOE's key intelligence product line.

b. Determine customer intelligence requirements met by DOE's product line.

c. Support the development and enhancement of IC enterprise-wide intelligence data standards.

d. Ensure the resources necessary (i.e., programs and budgets) to achieve DOE's intelligence goals and objectives.

e. Other (please specify):

__________________.

16. As a customer of DOE intelligence product, what is your primary consideration in determining which agency's intelligence product is best suited to your needs?

a. The products are consistently based on all-source intelligence.

b. The product's objectivity, balance and depth of analysis.

c. Product is written for tailored re-use (i.e., sanitization, wider dissemination, etc.)

d. The product is technically accurate.

e. Other (please specify):

__________________.

17. As a customer of and/or collaborator on DOE intelligence products, how much of your organization's total intelligence product budget is associated with DOE?

a. >50%.

b. 25-50%.

c. 5-25%.

d. 5%.

e. Other (please specify):

__________________.

18. What change(s) should DOE make to its intelligence products to increase the percentage of your organization's intelligence product budget associated with DOE (please annotate all that apply)?

a. More use of all-source analysis.

b. More product balance and depth of analysis.

c. More products written for tailored re-use (i.e., sanitization, wider dissemination).

d. Better technical accuracy.

e. Other (please specify):

__________________.

19. As a customer or prospective customer for DOE intelligence product, do you believe our intelligence budget is sufficient to produce credible product to meet your needs?

a. Yes.

b. No.

c. Don't Know.

20. How do DOE's intelligence products compare to similar products of other IC members?

a. Better.

b. Pretty much the same.

c. Slightly less comparable.

d. Not comparable.

e. Other (please specifiy):

__________________.

21. As a customer of DOE intelligence products, what do you see as DOE's distinctive competencies (please annotate all that apply):

a. Technical knowledge on nuclear or energy issues.

b. Product balance and depth of analysis.

c. Ability to tailor product to specific customer needs.

d. Product currency and responsiveness.

e. Other (please specify):

__________________.

22. What would make customers lose interest DOE intelligence products?

a. Product technical or other inaccuracies.

b. Shallow analysis.

c. Failure to focus on its customers' current topics of interest.

d. Dedicating insufficient resources to DOE intelligence products.

e. Other (please specify):

__________________.

23. How can DOE's Office of Intelligence increase the credibility of its intelligence products?

a. More use of all-source analysis.

b. More product objectivity, balance and depth of analysis.

c. More products written for tailored re-use (i.e., sanitization, wider dissemination).

d. Better technical accuracy.

e. Other (please specify):

__________________.

24. Which of the following statements best describes your overall view of DOE intelligence products?

a. The products meet my mission goals and information requirements.

b. The products are clear, logical, and support my analysis and/or assessments.

c. The products helped me make good, informed decisions.

d. The products identified new information relevant to my job.

e. Other (please specify):

__________________.

25. Additional comments to help DOE improve its intelligence products?

__________________.

[FR Doc. E9-2461 Filed 2-4-09; 8:45 am]

BILLING CODE 6450-01-P